FEDERAL COMMUNICATIONS COMMISSION

47 CFR Parts 15 and 76

[CS Docket No. 97-80; PP Docket No. 00-67; FCC 03-225]

Commercial Availability of Navigation Devices and Compatibility Between Cable Systems and Consumer Electronics Equipment; Public Information Collection Approved by Office of Management and Budget

AGENCY: Federal Communications Commission.

ACTION: Final rule; announcement of effective date.

SUMMARY: The Federal Communications Commission has received Office of Management and Budget (OMB) approval for the revised public information collection, Commercial Availability of Navigation Devices and Compatibility Between Cable Systems and Consumer Electronics Equipment, CS Docket No. 97-80 and PP Docket No. 00-67, OMB Control Number 3060-1032. Therefore, the Commission announces that OMB Control No. 3060-1032 and associated rules 47 CFR 15.123, 76.1905, and 76.1906 are effective March 17, 2004. The incorporation by reference in 47 CFR 15.123 is approved as of March 17, 2004.

DATES: The rules in 47 CFR 15.123, 76.1905, and 76.1906 are effective March 17, 2004. The incorporation by reference in 47 CFR 15.123 is approved as of March 17, 2004.

SUPPLEMENTARY INFORMATION: The Federal Communications Commission has received OMB approval for a revised information collection in Commercial Availability of Navigation Devices and Compatibility Between Cable Systems and Consumer Electronics Equipment, CS Docket No. 97-80 and PP Docket No. 00-67, 68 FR 66728, November 28, 2003. Through this document, the Commission announces that it received this approval on March 2, 2004; OMB Control No. 3060-1032. The effective date for this collection and associated rules 47 CFR 15.123, 76.1905, and 76.1906 is March 17, 2004. The incorporation by reference in 47 CFR 15.123 is approved as of March 17, 2004.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Leslie F. Smith, Federal Communications Commission, (202) 418-0217 or via the Internet at leslie.smith@fcc.gov.

Federal Communications Commission.
Marlene H. Dortch,
Secretary.

[FR Doc. 04-6026 Filed 3-16-04; 8:45 am]

BILLING CODE 6712-01-P